DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of June 2, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 4, 2016.
Roy E. Wright,
Deputy Associate Administrator for Insurance and Mitigation, Department of Homeland Security, Federal Emergency Management Agency.

Community | Community map repository address
Lycoming County, Pennsylvania (All Jurisdictions)
Docket No.: FEMA-B-1510
Borough of Hughesville | Borough Office, 147 South 5th Street, Hughesville, PA 17737.
Borough of Jersey Shore | Borough Office, 232 Smith Street, Jersey Shore, PA 17740.
Borough of Montgomery | Borough Hall, 35 South Main Street, Montgomery, PA 17752.
Borough of Montoursville | Borough Hall, 617 North Loyalsock Avenue, Montoursville, PA 17754.
Borough of Muncy | Borough Hall, 14 North Washington Street, Muncy, PA 17756.
Borough of Picture Rocks | Borough Building, 113 North Main Street, Picture Rocks, PA 17762.
Borough of Salladasburg | 145 Black Horse Alley, Salladasburg, PA 17740.
Borough of South Williamsport | Borough Building, 329 West Southern Avenue, South Williamsport, PA 17702.
City of Williamsport | City Hall, 245 West 4th Street, Williamsport, PA 17701.
Township of Anthony | Anthony Township Building, 402 Dutch Hill Road, Cogan Station, PA 17725.
Township of Armstrong | Armstrong Township Building, 502 Waterdale Road, Williamsport, PA 17702.
Township of Bastress | Bastress Township Building, 518 Cold Water Town Road, Williamsport, PA 17702.
Township of Brady | Brady Township Building, 1986 Elimsport Road, Montgomery, PA 17752.
Township of Brown | 18254 Route 414 Highway, Cedar Run, PA 17727.
Township of Cascade | Cascade Township Building, 1456 Kellyburg Road, Trout Run, PA 17771.
Township of Clinton | Clinton Township Building, 2106 State Route 54, Montgomery, PA 17752.
Township of Cogan House | Cogan House Township Building, 4609 Route 184 Highway, Trout Run, PA 17771.
Township of Cummings | Cummings Township Building, 10978 Route 44, Waterville, PA 17776.
Township of Eldred | Eldred Township Fire Company Building, 5558 Warrensville Road, Montoursville, PA 17754.
Township of Fairfield | Fairfield Township Building, 834 Fairfield Church Road, Montoursville, PA 17754.
Township of Franklin | Franklin Township Building, 61 School Lane, Lairdsville, PA 17742.
Township of Gamble | Gamble Township Building, 17 Beech Valley Road, Trout Run, PA 17771.
Township of Hepburn | Hepburn Township Office, 615 State Route 973 East Highway, Cogan Station, PA 17728.
Township of Jackson | Jackson Township Building, 3809 Williamson Trail, Liberty, PA 16930.
Township of Jordan | Jordan Township Building, 4298 Route 42 Highway, Unityville, PA 17774.
Township of Lewis | Lewis Township Building, 69 Main Street, Trout Run, PA 17771.
Township of Limestone | Limestone Township Building, 6253 South Route 44 Highway, Jersey Shore, PA 17740.
Township of Loyalsock | Loyalsock Township Building, 2501 East 3rd Street, Williamsport, PA 17701.
Township of Lycoming | Lycoming Township Municipal Building, 328 Dauber Road, Cogan Station, PA 17728.
Township of McHenry | McHenry Township Community Center, 145 Railroad Street, Cammal, PA 17723.
Township of McIntyre | McIntyre Township Building, 10975 Route 14, Ralston, PA 17763.
Township of McNett | McNett Township Building, 1785 Yorktown Road, Roaring Branch, PA 17765.
Township of Mifflin | Mifflin Township Building, 106 First Fork Road, Jersey Shore, PA 17740.
Township of Mill Creek | Mill Creek Township Building, 2063 Woodley Hollow Road, Montoursville, PA 17754.
Township of Moreland | Moreland Township Building, 1220 Moreland Township Road, Muncy, PA 17756.
Township of Muncy | Muncy Fire Hall, 1922 Pond Road, Pennsdale, PA 17756.
Township of Muncy Creek | Muncy Creek Township Building, 575 Route 442 Highway, Muncy, PA 17756.
Township of Old Lycoming | Old Lycoming Township Municipal Office, 1951 Green Avenue, Williamsport, PA 17701.
Township of Penn | Penn Township Building, 4600 Beaver Lake Road, Hughesville, PA 17737.
Township of Piatt | Piatt Township Building, 9687 North Route 220 Highway, Jersey Shore, PA 17740.
Township of Pine | Pine Township Building, 925 Oregon Hill Road, Morris, PA 16938.
Township of Plunketts Creek | Plunketts Creek Township Building, 179 Dunwoody Road, Williamsport, PA 17701.
Township of Porter | Porter Township Building, 5 Shaffer Lane, Jersey Shore, PA 17740.
Township of Shrewsbury | Shrewsbury Township Building, 143 Point Bethel Road, Hughesville, PA 17737.
Township of Susquehanna | Susquehanna Township Office Building, 91 East Village Drive, Williamsport, PA 17702.
Township of Upper Fairfield | Upper Fairfield Township Building, 4090 Route 87 Highway, Montoursville, PA 17754.
Township of Washington | Washington Township Building, 15973 South Route 44 Highway, Allenwood, PA 17810.
Township of Watson | Watson Township Building, 4635 North State Route 44, Jersey Shore, PA 17740.
Township of Wolf | Wolf Township Building, 695 Route 405 Highway, Hughesville, PA 17737.
Township of Woodward | Woodward Township Building, 4910 South Route 220 Highway, Linden, PA 17744.

[FR Doc. 2016-04886 Filed 3-4-16; 8:45 am]

BILLING CODE 9110-12-P